DEPARTMENT OF DEFENSE

GENERAL SERVICES ADMINISTRATION

NATIONAL AERONAUTICS AND SPACE ADMINISTRATION

48 CFR Chapter 1

[Docket No. FAR-2023-0051, Sequence No. 6]

Federal Acquisition Regulation; Federal Acquisition Circular 2024-01; Small Entity Compliance Guide

AGENCY: Department of Defense (DoD), General Services Administration (GSA), and National Aeronautics and Space Administration (NASA).

ACTION: Small Entity Compliance Guide (SECG).

SUMMARY: This document is issued under the joint authority of DoD, GSA, and NASA. This Small Entity Compliance Guide has been prepared in accordance with section 212 of the Small Business Regulatory Enforcement Fairness Act of 1996. It consists of a summary of the rules appearing in Federal Acquisition Circular (FAC) 2024-01, which amends the Federal Acquisition Regulation (FAR). Interested parties may obtain further information regarding these rules by referring to FAC 2024-01, which precedes this document.

DATES: November 14, 2023.

ADDRESSES: The FAC, including the SECG, is available at https://www.regulations.gov.

FOR FURTHER INFORMATION CONTACT: For clarification of content, contact the analyst whose name appears in the table below. Please cite FAC 2024-01 and the FAR Case number. For information pertaining to status or publication schedules, contact the Regulatory Secretariat Division at 202-501-4755 or GSARegSec@gsa.gov. An asterisk (*) next to a rule indicates that a regulatory flexibility analysis has been prepared.

Rules Listed in FAC 2024-01
Item | Subject | FAR case | Analyst
I | New Designated Country—North Macedonia | 2023-019 | Uddowla.
II | Technical Amendments. |  |

SUPPLEMENTARY INFORMATION: Summaries for each FAR rule follow. For the actual revisions and/or amendments made by these FAR rules, refer to the specific item numbers and subjects set forth in the documents following these item summaries. FAC 2024-01 amends the FAR as follows:

Item I—New Designated Country-North Macedonia (FAR Case 2023-019)

This final rule amends the Federal Acquisition Regulation (FAR) to add North Macedonia as a new designated country under the World Trade Organization Government Procurement Agreement (WTO GPA).

Item II—Technical Amendments

An administrative change is made at FAR 52.212-3, 52.212-5, 52.225-3, 52.225-4, 52.225-11, 52.225-12, 52.225-23, and 52.225-24.

William F. Clark,
Director, Office of Government-wide Acquisition Policy, Office of Acquisition Policy, Office of Government-wide Policy.

[FR Doc. 2023-24934 Filed 11-13-23; 8:45 am]

BILLING CODE 6820-EP-P